DEPARTMENT OF COMMERCE

International Trade Administration

A-570-846

Brake Rotors from the People's Republic of China: Extension of Time Limit for Preliminary Results of Antidumping Duty Administrative Review and New Shipper Review

AGENCY: Import Administration, International Trade Administration, Department of Commerce.

EFFECTIVE DATE: December 20, 2005.

FOR FURTHER INFORMATION CONTACT: Erin C. Begnal or Tom Killiam, AD/CVD Operations, Office 9, Import Administration, International Trade Administration, U.S. Department of Commerce, 14th Street and Constitution Avenue, NW, Washington, DC 20230; telephone: (202) 482-1442 or (202) 482-5222, respectively.

SUPPLEMENTARY INFORMATION:

Background

On May 27, 2005, the Department of Commerce (“Department”) initiated an administrative review of the antidumping duty order on brake rotors from the People's Republic of China. The review was initiated for 27 individually named firms. The period of review (POR) is April 1, 2004, through March 31, 2005. See Notice of Initiation of Antidumping and Countervailing Duty Administrative Reviews and Request for Revocation in Part, 66 FR 30694 (May 27, 2005). Of the 27 named firms for which the Department initiated an administrative review, 18 firms had shipments of subject merchandise during the POR that are subject to review. Two of the 18 firms are also participating in the proceeding as new shippers. After consulting with the two new shippers, they agreed to have the Department rescind their administrative reviews in accordance with 19 CFR 351.214(j). See Memorandum to the File from Carrie Blozy Regarding the 8th Administrative Review of Brake Rotors from the People's Republic of China, dated July 28, 2005. As a result, this administrative review will cover 16 firms.

However, due to the large number of firms subject to this administrative review, and the Department's experience regarding the resulting administrative burden to review each company for which a request has been made, the Department exercised its authority to limit the number of respondents selected for individual review by sampling, and conducted the sampling on November 16, 2005. See Section 777A(c) of the Tariff Act of 1930, as amended (“the Act”); see also November 16, 2005, Memorandum to the File from Erin Begnal, Antidumping Duty Administrative Review: Brake Rotors from the People's Republic of China (November 16, 2005, Sampling Memorandum).

The following respondents were selected for individual review pursuant to the sampling procedure: Qingdao Meita Automotive Industry Co., Ltd., Yantai Winhere Auto-Part Manufacturing Co., Ltd., Xiangfen Hengtai Brake Systems Co., Ltd., Hongfa Machinery (Dalian) Group Co., Ltd., and Longkou Haimeng Machinery Co., Ltd. See November 16, 2005, Sampling Memorandum.

The preliminary results of this administrative review are currently due by December 31, 2005.

Extension of Time Limit for Preliminary Results

Pursuant to section 751(a)(3)(A) of the Act, the Department shall issue preliminary results in an administrative review of an antidumping duty order within 245 days after the last day of the anniversary month of the date of publication of the order for which a review is requested and the final results within 120 days after the date on which the preliminary results are published. However, if it is not practicable to complete the review within the specified time periods, section 751(a)(3)(A) of the Act allows the Department to extend these deadlines to a maximum of 365 days and 180 days, respectively.

The Department has determined that completion of the preliminary results within the originally anticipated time limit, December 31, 2005, is impracticable. For the first time in this proceeding, the Department employed a sampling methodology to select respondents. In order to obtain necessary information and to afford parties opportunities to comment on the Department's respondent selection methodology, the Department did not conduct its respondent selection sampling procedure until November 16, 2005. See section 777A(b) of the Act (where the Department determines to limit the selection of respondents by sampling, the Department “shall, to the greatest extent possible, consult with the exporters and producers regarding the method to be used to select exporters, producers or types of products”). The Department requires additional time to analyze the parties' responses to the questionnaires issued on November 16, 2005, as well as to issue any necessary supplemental questionnaires and to conduct verifications. Consequently, it is not practicable to complete the review within the time specified under the Act. Therefore, the Department is extending the time limit for completion of these preliminary results by 120 days to April 30, 2006, in accordance with Section 751(a)(3)(A) of the Act.

Additionally, on April 29, 2005, Shanxi Zhongding Auto Parts Co., Ltd. agreed to waive the time limits of its new shipper review, on April 29, 2005, pursuant to 19 CFR 351.214(j)(3), and agreed to have its review conducted concurrently with the eighth administrative review of this order for the period April 1, 2004, through March 31, 2005. Therefore, the preliminary results of this new shipper review will also be extended by 120 days to April 30, 2006. The deadline for the final results of these reviews continues to be 120 days after the publication of the preliminary results.

We are issuing and publishing this notice in accordance with sections 751(a)(1) and 777(i)(1) of the Act.

Dated: December 13, 2005.
Stephen J. Claeys,
Deputy Assistant Secretary for Import Administration.

[FR Doc. E5-7561 Filed 12-19-05; 8:45 am]

BILLING CODE 3510-DS-S